DEPARTMENT OF THE TREASURY

Office of the Comptroller of the Currency

[OCC Charter Number 705919]

Bank 360, Beresford, South Dakota; Approval of Conversion Application

Notice is hereby given that on December 28, 2012, the Office of the Comptroller of the Currency (OCC) approved the application of Bank 360, Beresford, South Dakota, to convert to the stock form of organization. Copies of the application are available for inspection on the OCC Web site at the FOIA Reading Room https://foia-pal.occ.gov/palMain.aspx under Mutual to Stock Conversion Applications. If you have any questions, please call OCC Licensing Activities at (202) 649-6260.

Dated: February 19, 2013
By the Office of the Comptroller of the Currency.
Stephen A. Lybarger,
Deputy Comptroller for Licensing.

[FR Doc. 2013-04440 Filed 2-26-13; 8:45 am]

BILLING CODE 4810-33-P